ENVIRONMENTAL PROTECTION AGENCY

40 CFR Part 180

[OPP-2002-0043; FRL-7308-9]

Pesticide Tolerance Nomenclature Changes; Technical Amendment

AGENCY: Environmental Protection Agency (EPA).

ACTION: Final rule.

SUMMARY: This document makes minor revisions to the terminology of certain commodity terms listed under 40 CFR part 180, subpart C. EPA is taking this action to establish a uniform listing of commodity terms.

DATES: This regulation is effective July 1, 2003. Objections and requests for hearings, identified by docket ID number OPP-2002-0043, must be received on or before September 2, 2003.

FOR FURTHER INFORMATION CONTACT: Hoyt Jamerson, Registration Division (7505C), Office of Pesticide Programs, Environmental Protection Agency, 1200 Pennsylvania Ave., NW., Washington, DC 20460-0001; telephone number: (703) 308-9368; fax number: (703) 308-9368; e-mail address: jamerson.hoyt@epa.gov.

SUPPLEMENTARY INFORMATION:

I. General Information

A. Does this Action Apply to Me?

You may be potentially affected by this action if you are an agricultural producer, food manufacturer, or pesticide manufacturer. Potentially affected entities may include, but are not limited to:

• Crop production (NAICS 111)

• Animal production (NAICS 112)

• Food manufacturer (NAICS 311)

• Pesticide manufacturer (NAICS 32532)

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Get Copies of this Document and Other Related Information?

1. Docket. EPA has established an official public docket for this action under docket identification (ID) number OPP-2002-0043. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/. A frequently updated electronic version of 40 CFR part 180 is available at http://www.access.gpo.gov/nara/cfr/cfrhtml_00/Title_40/40cfr180_00.html, a beta site currently under development. To access an electronic copy of the commodity data base entitled Food and Feed Commodity Vocabulary go to: http://www.epa.gov/pesticides/foodfeed/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket ID number.

II. Background

EPA's Office of Pesticide Programs (OPP) has developed a commodity vocabulary data base entitled “Food and Feed Commodity Vocabulary.” The data base was developed to consolidate all the major OPP commodity vocabularies into one standardized vocabulary. As a result, all future pesticide tolerances issued under 40 CFR part 180 will use the “preferred commodity term” as listed in the aforementioned data base. This is the third in a series of documents revising the terminology of commodity terms currently in tolerances in 40 CFR part 180. Final rules, revising pesticide tolerance nomenclature, were published in the Federal Register on June 19, 2002 (67 FR 41802) (FRL-6835-2) and June 21, 2002 (67 FR 42392) (FRL-7180-1).

In the Federal Register of April 17, 2003, (68 FR 18935) EPA issued a proposed rule proposing to make minor revisions to the terminology of certain commodity terms used in tolerances in 40 CFR part 180, subpart C, to establish a uniform listing of commodities. There were no comments received in response to the proposed rule.

This revision process will establish a uniform presentation of existing commodity terms under 40 CFR part 180.

A. What Action is the Agency Taking?

In this rule, EPA is making the following format changes to a the terminology of the commodity terms in 40 CFR part 180 to the extent the terminology is not already in this format:

1. The first letter of the commodity term is capitalized. All other letters, including the first letter of proper names, are changed to lower case.

2. Commodity terms are listed in the singular although there are the following exceptions: “leaves”, “roots”, “tops”, “greens”, “hulls”, “vines”, “fractions”, “shoots”, and “byproducts”.

3. Commodity terms are amended so that generic terms, such as “corn” and “pea”, precede modifying terms, such as “field”, “dry” and “summer”.

4. Abbreviated terms are replaced with the appropriate commodity terms. Examples: “K=CWHR)” is replaced with “kernel plus cob with husks removed” and “POST-H” is replaced with “postharvest”.

5. Parenthesis are replaced with commas. Example: “Cherry (sweet), postharvest” is replaced with “Cherry, sweet, postharvest”.

6. Crop group terms are revised to standardize with the “Food and Feed Vocabulary”. Examples:

i. “Legume vegetables (succulent or dried) group”, “Legume vegetable group (dry and succulent), and “Legume vegetables” are replaced with “Vegetable, legume, group 6”.

ii. “Fruit, stone (cherry, peach, plum, prune) group” is replaced with “Fruit, stone, group 12”.

iii. “Grass forage, fodder and hay” and “Grass, forage, fodder, and hay” are replaced with “Grass, forage, fodder and hay group 17”.

iv. “Herbs and spices” is replaced with “Herb and spice group 19”.

B. Additional Changes

In addition to format changes to the commodity terms, this document also includes many revisions to the commodity terms. These revisions replace certain commodity terms that are no longer used by EPA with the appropriate matching term in the “Food and Feed Commodity Vocabulary”. For example, “Clover, green” is replaced with “Clover, forage”, “Peanut vines” is replaced with “Peanut, hay”, “Swine, meat” is replaced with “Hog, meat”, and “Bushnuts” is replaced with “Nut, macadamia”.

This document also deletes certain terms that are not needed to identify the tolerance commodities. Examples:

i. The term “preharvest” (“pre-H” or “(PRE-H)”) is not needed since tolerances and exemptions established under part 180 apply to residues from only preharvest application, unless otherwise specified, in accordance with 40 CFR 180.1(i).

ii. The term “preslaughter” (“(PRE-S)” or “(PRE-S appli)”) is not needed since tolerances and exemptions established under part 180 apply to residues from preslaughter application to livestock, unless otherwise specified.

iii. The terms “nutmeat” and “nutmeats” when used in association with the tree nut crops or peanut are not needed. For tree nut crops, nutmeat and almond hulls are the only edible portions of the crop consumed. Therefore, OPP's Food and Feed Commodity Vocabulary uses the commodity terms “Almond”, “Pecan”, “Walnut”, etc. for the tree nuts and the commodity term “Peanut” is used in place of “Peanut, nutmeat”. Since “almond hulls” are fed to livestock, tolerances may be established for “Almond, hulls”.

III. Objections and Hearing Requests

Under section 408(g) of the FFDCA, as amended by the FQPA, any person may file an objection to any aspect of this regulation and may also request a hearing on those objections. The EPA procedural regulations which govern the submission of objections and requests for hearings appear in 40 CFR part 178. Although the procedures in those regulations require some modification to reflect the amendments made to the FFDCA by the FQPA of 1996, EPA will continue to use those procedures, with appropriate adjustments, until the necessary modifications can be made. The new section 408(g) provides essentially the same process for persons to “object ” to a regulation for an exemption from the requirement of a tolerance issued by EPA under new section 408(d), as was provided in the old FFDCA sections 408 and 409. However, the period for filing objections is now 60 days, rather than 30 days.

A. What Do I Need to Do to File an Objection or Request a Hearing?

You must file your objection or request a hearing on this regulation in accordance with the instructions provided in this unit and in 40 CFR part 178. To ensure proper receipt by EPA, you must identify docket ID number OPP-2002-0043 in the subject line on the first page of your submission. All requests must be in writing, and must be mailed or delivered to the Hearing Clerk on or before September 2, 2003.

1. Filing the request. Your objection must specify the specific provisions in the regulation that you object to, and the grounds for the objections (40 CFR 178.25). If a hearing is requested, the objections must include a statement of the factual issues(s) on which a hearing is requested, the requestor's contentions on such issues, and a summary of any evidence relied upon by the objector (40 CFR 178.27). Information submitted in connection with an objection or hearing request may be claimed confidential by marking any part or all of that information as CBI. Information so marked will not be disclosed except in accordance with procedures set forth in 40 CFR part 2. A copy of the information that does not contain CBI must be submitted for inclusion in the public record. Information not marked confidential may be disclosed publicly by EPA without prior notice.

Mail your written request to: Office of the Hearing Clerk (1900C), Environmental Protection Agency, 1200 Pennsylvania Ave., NW., Washington, DC 20460-0001. You may also deliver your request to the Office of the Hearing Clerk in Rm. 104, Crystal Mall #2, 1921 Jefferson Davis Hwy., Arlington, VA. The Office of the Hearing Clerk is open from 8 a.m. to 4 p.m., Monday through Friday, excluding legal holidays. The telephone number for the Office of the Hearing Clerk is (703) 603-0061.

2. Tolerance fee payment. If you file an objection or request a hearing, you must also pay the fee prescribed by 40 CFR 180.33(i) or request a waiver of that fee pursuant to 40 CFR 180.33(m). You must mail the fee to: EPA Headquarters Accounting Operations Branch, Office of Pesticide Programs, P.O. Box 360277M, Pittsburgh, PA 15251. Please identify the fee submission by labeling it “Tolerance Petition Fees.”

EPA is authorized to waive any fee requirement “when in the judgement of the Administrator such a waiver or refund is equitable and not contrary to the purpose of this subsection.” For additional information regarding the waiver of these fees, you may contact James Tompkins by phone at (703) 305-5697, by e-mail at tompkins.jim@epa.gov, or by mailing a request for information to Mr. Tompkins at Registration Division (7505C), Office of Pesticide Programs, Environmental Protection Agency, 1200 Pennsylvania Ave., NW., Washington, DC 20460-0001.

If you would like to request a waiver of the tolerance objection fees, you must mail your request for such a waiver to: James Hollins, Information Resources and Services Division (7502C), Office of Pesticide Programs, Environmental Protection Agency, 1200 Pennsylvania Ave., NW., Washington, DC 20460-0001.

3. Copies for the Docket. In addition to filing an objection or hearing request with the Hearing Clerk as described in Unit III.A., you should also send a copy of your request to the PIRIB for its inclusion in the official record that is described in Unit I.B.1. Mail your copies, identified by docket ID number OPP-2003-0043, to: Public Information and Records Integrity Branch, Information Resources and Services Division (7502C), Office of Pesticide Programs, Environmental Protection Agency, 1200 Pennsylvania Ave., NW., Washington, DC 20460. In person or by courier, bring a copy to the location of the PIRIB described in Unit I.B.1. You may also send an electronic copy of your request via e-mail to: opp-docket@epa.gov. Please use an ASCII file format and avoid the use of special characters and any form of encryption. Copies of electronic objections and hearing requests will also be accepted on disks in WordPerfect 6.1/8.0 or ASCII file format. Do not include any CBI in your electronic copy. You may also submit an electronic copy of your request at many Federal Depository Libraries.

B. When Will the Agency Grant a Request for a Hearing?

A request for a hearing will be granted if the Administrator determines that the material submitted shows the following: There is a genuine and substantial issue of fact; there is a reasonable possibility that available evidence identified by the requestor would, if established resolve one or more of such issues in favor of the requestor, taking into account uncontested claims or facts to the contrary; and resolution of the factual issues(s) in the manner sought by the requestor would be adequate to justify the action requested (40 CFR 178.32).

IV. Statutory and Executive Order Reviews

This final rule makes technical amendments to the Code of Federal Regulations which have no substantive impact on the underlying regulations, and it does not otherwise impose or amend any requirements. As such, the Office of Management and Budget (OMB) has determined that a technical amendment is not a “significant regulatory action” subject to review by OMB under Executive Order 12866, entitled Regulatory Planning and Review (58 FR 51735, October 4, 1993). Because this final rule has been exempted from review under Executive Order 12866 due to its lack of significance, this final rule is not subject to Executive Order 13211, Actions Concerning Regulations That Significantly Affect Energy Supply, Distribution, or Use (66 FR 28355, May 22, 2001). This final rule does not contain any information collections subject to OMB approval under the Paperwork Reduction Act (PRA), 44 U.S.C. 3501 et seq., or impose any enforceable duty or contain any unfunded mandate as described under Title II of the Unfunded Mandates Reform Act of 1995 (UMRA) (Public Law 104-4). Nor does it require any special considerations under Executive Order 12898, entitled Federal Actions to Address Environmental Justice in Minority Populations and Low-Income Populations (59 FR 7629, February 16, 1994); or OMB review or any Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-113, section 12(d) (15 U.S.C. 272 note). The Regulatory Flexibility Act (RFA) (5 U.S.C. 601 et seq.) generally requires an agency to prepare a regulatory flexibility analysis of any rule subject to notice and comment rulemaking requirements under the Administrative Procedure Act or any other statute unless the agency certifies that the rule will not have a significant impact on a substantial number of small entities. Small entities include small businesses, small organizations, and small governmental organizations. After considering the economic impacts of today's final rule on small entities, I certify that this action will not have a significant economic impact on a substantial number of small entities. This action proposes technical amendments to the Code of Federal Regulations which have no substantive impact on the underyling regulations. This technical amendment will not have any negative economic impact on any entities, including small entities. In addition, the Agency has determined that this action will not have a substantial direct effect on States, on the relationship between the national government and the States, or on the distribution of power and responsibilities among the various levels of government, as specified in Executive Order 13132, entitled Federalism (64 FR 43255, August 10, 1999). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” This final rule directly regulates growers, food processors, food handlers and food retailers, not States. This action does not alter the relationships or distribution of power and responsibilities established by Congress in the preemption provisions of section 408(n)(4) of the FFDCA. For these same reasons, the Agency has determined that this final rule does not have any “tribal implications” as described in Executive Order 13175, entitled Consultation and Coordination with Indian Tribal Governments (65 FR 67249, November 6, 2000). Executive Order 13175, requires EPA to develop an accountable process to ensure “meaningful and timely input by tribal officials in the development of regulatory policies that have tribal implications.” “Policies that have tribal implications” is defined in the Executive Order to include regulations that have “substantial direct effects on one or more Indian tribes, on the relationship between the Federal Government and the Indian tribes, or on the distribution of power and responsibilities between the Federal Government and Indian tribes.” This final rule will not have substantial direct effects on tribal governments, on the relationship between the Federal Government and Indian tribes, or on the distribution of power and responsibilities between the Federal Government and Indian tribes, as specified in Executive Order 13175. Thus, Executive Order 13175 does not apply to this final rule.

V. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of this final rule in the Federal Register. This final rule is not a “major rule” as defined by 5 U.S.C. 804(2).

List of Subjects in 40 CFR Part 180

Environmental protection, Administrative practice and procedure, Agricultural commodities, Pesticides and pest, Reporting and recordkeeping requirements.

Dated: June 26, 2003.
James Jones
Director, Office of Pesticide Programs.

Therefore, 40 CFR part 180 is amended as follows:

PART 180—[AMENDED]

1. The authority citation for part 180 continues to read as follows:

Authority: 21 U.S.C. 321(q), 346(a) and 371.

2. In 180.491, the table to paragraph (a)(3) is revised to read as follows:

§ 180.491 Propylene oxide; tolerances for residues.

(a) * * *

(3) * * *

Commodity | Parts per million
Cocoa bean, bean | 300
Gum, edible | 300
Nutmeat, processed, except peanuts | 300
Spices, processed | 300

§ 180.495 [Amended]

3. In § 180.495, the table to paragraph (a) is amended by changing the entry “Poultry, eggs” to read “Egg” and by realphabetizing the entry into the table.

Subpart C— [Amended]

4. Subpart C is amended as follows:

i. By removing the following terms wherever they appear in subpart C:

a. (Pre-H)

b. pre-H

c. (PRE-H)

d. , nutmeat

e. , nutmeats

f. (nutmeats)

g. (nuts)

h. (PRE-S appli)

i. (pre-s)

ii. In the following table, by changing the term exactly as it appears in the Existing Term column to read exactly like the term in the New Term column wherever it appears in subpart C, and by realphabetizing the new term where necessary.

Existing Term | New Term
Almond, meat | Almond
Amaranth, grain | Amaranth, grain, grain
Animal feed, nongrass, group | Animal feed, nongrass, group 18
Animal feed, nongrass, group, except alfalfa | Animal feed, nongrass, group 18, except alfalfa
Aspirated grain fractions | Grain, aspirated fractions
Banana, pulp with peel removed | Banana, pulp
Banana, whole | Banana
Bean, dry | Bean, dry, seed
Bean, green, postharvest | Bean, succulent, postharvest
Bean, guar | Guar, seed
Bean, lima (green) | Bean, lima, succulent
Bean, mung, dry | Bean, mung, seed
Bean, snap | Bean, snap, succulent
Bean, snap, postharvest | Bean, snap, succulent, postharvest
Bean vine forage | Bean, forage
Beeswax | Honeycomb
Beet | Beet, garden
Beet, greens | Beet, garden, tops
Beet greens (alone) | Beet, garden, tops
Beet, roots | Beet, garden, roots
Beet, sugar, pulp | Beet, sugar, dried pulp
Beet, sugar, pulp (dried and/or dehydrated) | Beet, sugar, dried pulp
Beet, sugar, without tops | Beet, sugar, roots
Beet, tops | Beet, garden, tops
Black walnut meats | Walnut, black
Berry group | Berry group 13
Brassica, head and stem, subgroup | Brassica, head and stem, subgroup 5A
Brassica, head . stem subgroup (5-A) | Brassica, head and stem, subgroup 5A
Brassica, head and stem, subgroup, excluding cabbage | Brassica, head and stem, subgroup 5A, except cabbage
Brassica, leafy greens, subgroup | Brassica, leafy greens, subgroup 5B
Brassica, leafy greens, subgroup (Crop Subgroup 5-B) | Brassica, leafy greens, subgroup 5B
Brassica vegetables crop group | Vegetable, brassica, leafy, group 5
Buckwheat, postharvest | Buckwheat, grain, postharvest
Buckwheat | Buckwheat, grain
Bushberry subgroup | Bushberry subgroup 13B
Bushnuts | Nut, macadamia
Canberries | Caneberry subgroup
Caneberries subgroup | Caneberry subgroup 13A
Caneberry crop subgroup | Caneberry subgroup 13A
Caneberry subgroup | Caneberry subgroup 13A
Canola | Canola, seed
Carambola | Starfruit
Carrot | Carrot, roots
Carrots | Carrot, roots
Carrot, postharvest | Carrot, roots, postharvest
Cattle, milk | Milk
Cherry, sour | Cherry, tart
Cherry (sour) | Cherry, tart
Cherry (sweet), postharvest | Cherry, sweet, postharvest
Chickpea | Chickpea, seed
Chickpeas | Chickpea, seed
Chick pea, seed (dry) | Chickpea, seed
Cilantro | Coriander
Cilantro, leaves | Coriander, leaves
Cipollini, bulb, postharvest | Onion, cipollini, bulb, postharvest
Citrus, pulp | Citrus, dried pulp
Citrus whole fruit | Citrus
Clover, chaff, grown for seed | Clover, seed screenings
Clover, fresh | Clover, forage
Clover, green | Clover, forage
Cocoa | Cocoa bean, dried bean
Cocoa bean | Cocoa bean, dried bean
Coffee | Coffee, bean
Copra | Coconut, copra
Copra, postharvest | Coconut, copra, postharvest
Corn, field, fodder | Corn, field, stover
Corn, field, forage (silage) | Corn, field, forage
Corn, field, milling fractions | Corn, field, milled byproducts
Corn, field, stover (fodder) | Corn, field, stover
Corn, fodder | Corn, stover
Corn, fodder (dry) | Corn, stover
Corn, fodder (field) | Corn, field, stover
Corn, fodder, field (dry) | Corn, field, stover
Corn, fodder, field (green) | Corn, field, stover
Corn, fodder, pop | Corn, pop, stover
Corn, fodder, sweet | Corn, sweet, stover
Corn, fresh | Corn, sweet, kernal plus cob with husks removed
Corn oil | Corn, field, refined oil
Corn, pop, fodder | Corn, pop, stover
Corn, pop, stover (fodder) | Corn, pop, stover
Corn, silage | Corn, field, forage
Corn, sweet, fodder | Corn, sweet, stover
Cottonseed | Cotton, undelinted seed
Crambe | Crambe, seed
Crop Group 16 (forage, stover and hay of Grain cereal) | Grain, cereal, forage, fodder and straw group 16
Crop Group 15 (Grain, cereal) | Grain, cereal, group 15
Crop Group 17 (grass, forage, and grass, hay) | Grass, forage, fodder and hay, group 17
Dandelions | Dandelion, leaves
Egg, whole | Egg
Field corn, fodder | Corn, field, stover
Filberts (hazelnuts) | Hazelnut
Filbert (Hazelnuts), postharvest | Hazelnut, postharvest
Flaxseed | Flax, seed
Flaxseed meal | Flax, meal
Foliage of legume vegetables | Vegetable, foliage of legume, group 7
Foliage of legume vegetables crop group (foliage) | Vegetable, foliage of legume, group 7
Foliage of legume vegetables (except soybean) | Vegetable, foliage of legume, except soybean, subgroup 7A
Fruit, citrus, group | Fruit, citrus, group 10
Fruit, pome, crop group | Fruit, pome, group 11
Fruit, pome, group | Fruit, pome, group 11
Fruit, stone (cherry, peach, plum, prune), group | Fruit, stone, group 12
Fruit, stone, group | Fruit, stone, group 12
Fruit, stone, group 12, except cherries | Fruit, stone, group 12, except cherry
Fruit, stone, group, except plum | Fruit, stone, group 12, except plum
Fruit, stone, group, except plum and prune | Fruit, stone, group 12, except plum and plum, prune, fresh
Fruit, stone, group, except fresh prune plum | Fruit, stone, group 12, except plum, prune, fresh
Forage, fodder, and straw of Grains, cereal crop group (forage) | Grain, cereal, forage, fodder and straw, group 16, forage
Forage, fodder, and straw of Grains, cereal crop group (hay) | Grain, cereal, forage, fodder and straw, group 16, hay
Forage, fodder, and straw of Grains, cereal crop group (stover) | Grain, cereal, forage, fodder and straw, group 16, stover
Forage, fodder, and straw of Grains, cereal crop group (straw) | Grain, cereal, forage, fodder and straw, group 16, straw
Garbanzo bean | Chickpea, seed
Ginseng | Ginseng, root
Ginseng, dried | Ginseng, dried root
Ginseng root, fresh | Ginseng, root
Grain, aspirated grain fractions | Grain, aspirated fractions
Grain, cereal crop group (grain) | Grain, cereal, group 15
Grain, cereal forage, fodder and straw, group | Grain, cereal, forage, fodder and straw, group 16
Grain, cereal, group | Grain, cereal, group 15
Grain, cereal, group, except wheat | Grain, cereal, group 15, except wheat
Grain, cereal, group (except barley, field corn, grain sorghum, oats, and wheat) | Grain, cereal, group 15, except barley, field corn, grain sorghum, oat, and wheat
Grains, Cereal, Forage, Fodder, and Straw, group | Grain, cereal, forage, fodder and straw, group 16
Grains, Cereal, Group | Grain, cereal, group 15
Grass, canary, annual straw | Canarygrass, annual, hay
Grass fodder | Grass, hay
Grass forage, fodder and hay | Grass, forage, fodder and hay, group 17
Grass, forage, fodder, and hay | Grass, forage, fodder and hay, group 17
Grass, forage, fodder and hay, group | Grass, forage, fodder and hay, group 17
Grass, hay (pasture and rangeland) | Grass, hay
Grass, seed cleanings (including hulls) | Grass, seed screenings
Grass, seed straw (including chaff) | Grass, straw, grown for seed
Head and stem Brassica crop subgroup | Brassica, head and stem, subgroup 5A
Herb and spice group | Herb and spice group 19
Herbs and spices | Herb and spice group 19
Herb subgroup | Herb subgroup 19A
Herbs subgroup | Herb subgroup 19A
Hop, fresh | Hop, vine
Hop, green | Hop, vine
(inc. sweet K=CWHR) | , kernel plus cob with husks removed
(inc sweet K=CWHR) | , kernel plus cob with husks removed
(including sweet K=CWHR) | , kernel plus cob with husks removed
Leafy greens crop subgroup | Leafy greens subgroup 4A
Leafy greens subgroup | Leafy greens subgroup 4A
Leafy petioles subgroup | Leaf petioles subgroup 4B
Leafy vegetable (except Brassica) crop group | Vegetable, leafy, except brassica, group 4
Leafy vegetable (except Brassica) vegetables group | Vegetable, leafy, except brassica, group 4
Leafy vegetables (except brassica) group (except spinach) | Vegetable, leafy, except brassica, group 4, except spinach
Leaves of root and tuber vegetables (human food or animal feed) group | Vegetable, leaves of root and tuber, group 2
Legume vegetable group foliage (except soybean, forage and soybean, hay) | Vegetable, foliage of legume, except soybean, subgroup 7A
Legume vegetable group (dry or succulent) | Vegetable, legume, group 6
Legume vegetable group (dry and succulent) | Vegetable, legume, group 6
Legume vegetable (succulent or dried) group | Vegetable, legume, group 6
Legume vegetables | Vegetable, legume, group 6
Legume vegetables crop group, seed | Vegetable, legume, group 6
Legume vegetables (succulent or dried) group | Vegetable, legume, group 6
Legume vegetable (succulent or dried group, excluding soybeans) | Vegetable, legume, group 6, except soybean
Lentils | Lentil, seed
Mandarins | Tangerine
Melon subgroup | Melon subgroup 9A
Mustard, Chinese | Mustard greens
Nongrass animal feed (forage, fodder, straw, and hay) | Animal feed, nongrass, group 18 group
Nut, tree crop group | Nut tree, group 14
Nut, tree, group | Nut, tree, group 14
Nut, tree, group (except Almond, hulls) | Nut, tree, group 14
Oat, fodder | Oat, straw
Oat, forage, green | Oat, forage
Oat, green forage | Oat, forage
Orange | Orange, sweet
Oranges | Orange, sweet
Parsley | Parsley, leaves
Parsley, root | Parsley, turnip rooted, roots
Pea and bean, dried shelled, except soybean, subgroup | Pea and bean, dried shelled, except soybean, subgroup 6C
Pea and bean, succulent shelled, subgroup | Pea and bean, succulent shelled, subgroup 6B
Peach (including nectarines) | Peach
Pea, dried | Pea, dry, seed
Pea, dry | Pea, dry, seed
Pea, forage | Pea, field vines
Pea, hay | Pea, field, hay
Peanut forage | Peanut, hay
Peanut, oil | Peanut, refined oil
Peanut, shells | Peanut, hulls
Pea, southern, blackeyed | Pea, blackeyed
Peanut, vines | Peanut, hay
Peanut forage and hay | Peanut, hay
Pigeon peas | Pea, pigeon, seed
Pineapple bran (wet and dry) | Pineapple, bran
Pistachio nut | Pistachio
Pistachio nuts | Pistachio
Plum, dried | Plum, prune, dried
Potato, waste, dried | Potato, processed potato waste
(PRE- and POST-H) | , postharvest
Raisin | Grape, raisin
Raisins | Grape, raisin
Raisin waste | Grape, raisin, waste
Rape forage | Rapeseed, forage
Rapeseed | Rapeseed, seed
Rape seed | Rapeseed, seed
Rice | Rice, grain
Rice, fodder | Rice, straw
(roots PRE-H) | , roots
Rye, fodder | Rye, straw
Rye, forage, green | Rye, forage
Rye, green forage | Rye, forage
Rye, hay | Rye, forage
Safflower | Safflower, seed
Sorghum, aspirated grain fractions | Grain, aspirated fractions
Sorghum forage | Sorghum, forage
Sorghum grain | Sorghum, grain
Sorghum, green forage | Sorghum, forage, hay
Sorghum milling fraction | Sorghum, grain, flour
Sorghum milling fractions (except flour) | Sorghum, grain, bran
Sorghum (milo) | Sorghum, grain
Sorghum, stover | Sorghum, grain, stover
Sorghum, hay | Sorghum, forage, hay
Sorgum, fodder | Sorghum, grain, stover
Soybean grain | Soybean, seed
Soybean, oil | Soybean, refined oil
Spearmint | Spearmint, tops
Spearmint hay | Spearmint, hay
Spice subgroup | Spice subgroup 19B
Spices subgroup | Spice subgroup 19B
Squash/Cucumber subgroup | Squash/Cucumber subgroup 9B
Sugarbeet, pulp | Beet, sugar, dried pulp
Sugarcane | Sugarcane, cane
Sunflower | Sunflower, seed
Sunflowers | Sunflower, seed
Sweet potato | Sweet potato, roots
Swine, fat | Hog, fat
Swine, kidney | Hog, kidney
Swine, liver | Hog, liver
Swine, meat | Hog, meat
Swine, meat byproducts | Hog, meat byproducts
Tomato, fresh | Tomato
Tomato, fruit | Tomato
(tops PRE-H) | , tops
Tree nut (crop group 14), nutmeat | Nut, tree, group 14
Tree nuts (crop group 14) | Nut, tree, group 14
Tuberous and Corm, Vegetable Crop Subgroup | Vegetable, tuberous and corm, subgroup 1C
Turnip, greens, tops | Turnip, greens
Turnip, tops | Turnip, greens
Wheat, fodder | Wheat, straw
Wheat, fodder, green | Wheat, hay
Wheat, forage (green) | Wheat, forage
Wheat, forage, green | Wheat, forage
Wheat, green fodder | Wheat, hay
Wheat, green forage | Wheat, forage
Wheat, stover | Wheat, straw
Vegetable, brassica, leafy, group | Vegetable, brassica, leafy, group 5
Vegetable, brassica, leafy group | Vegetable, brassica, leafy, group 5
Vegetable, brassica, leafy, group (exceptbroccoli, cabbage, cauliflower, brussels sprouts, and mustard greens) | Vegetable, brassica, leafy, group 5, except broccoli, cabbage, cauliflower,brussels sprouts, and mustard greens
Vegetable, bulb, group | Vegetable, bulb, group 3
Vegetable, cucurbit, crop group | Vegetable, cucurbit, group 9
Vegetable, cucurbit, group | Vegetable, cucurbit, group 9
Vegetable, cucurbit, group (Crop Group 9) | Vegetable, cucurbit, group 9
Vegetable, cucurbit, melon, crop subgroup 9-A | Melon subgroup 9A
Vegetable, foliage of legume, except soybean, subgroup | Vegetable, foliage of legume, except soybean, subgroup 7A
Vegetable, foliage of legume, group (except soybean, forage and hay) | Vegetable, foliage of legume, except soybean, subgroup 7A
Vegetable, foliage of legume, group | Vegetable, foliage of legume, group 7
Vegetable, fruiting Crop Group | Vegetable, fruiting, group 8
Vegetable, fruiting, group (Crop Group 8) | Vegetable, fruiting, group 8
Vegetable, fruiting (except cucurbits) group | Vegetable, fruiting, group 8
Vegetables, fruiting (except cucurbits), group | Vegetable, fruiting, group 8
Vegetable, fruiting, group | Vegetable, fruiting, group 8
Vegetable, fruiting group | Vegetable, fruiting, group 8
Vegetable, fruiting, group (except cucurbits) | Vegetable, fruiting, group 8
Vegetable, fruiting, except cucurbit | Vegetable, fruiting, group 8
Vegetable, fruiting, crop group | Vegetable, fruiting, group 8
Vegetable, leaf petiole, subgroup | Leaf petioles subgroup 4B
Vegetable, leafy, except brassica, group | Vegetable, leafy, except brassica, group 4
Vegetable, leafy, except brassica, group (Crop Group 4) | Vegetable, leafy, except brassica, group 4
Vegetable, leafy, except Brassica, group | Vegetable, leafy, except brassica, group 4
Vegetable, leafy group, except brassica | Vegetable, leafy, except brassica, group 4
Vegetable, leaves of root and tuber, group | Vegetable, leaves of root and tuber, group 2
Vegetable, leaves of root and tuber, group (except sugar beet tops) | Vegetable, leaves of root and tuber, group 2, except sugar beet
Vegetable, legume, edible podded, subgroup | Vegetable, legume, edible podded, subgroup 6A
Vegetables, legume, edible podded, subgroup | Vegetable, legume, edible podded, subgroup 6A
Vegetable, legume, group | Vegetable, legume, group 6
Vegetable, legume, group (except soybean) | Vegetable, legume, group 6, except soybean
Vegetable, root and tuber, group | Vegetable, root and tuber, group 1
Vegetable, root, except sugar beet, subgroup | Vegetable, root, except sugar beet, subgroup 1B
Vegetable, root (except sugar beet) subgroup | Vegetable, root, except sugar beet, subgroup1B
Vegetable, root and tuber, group (except sugar beet) | Vegetable, root and tuber, group 1, except sugar beet
Vegetable, root, subgroup | Vegetable, root, subgroup 1A
Vegetable, tuberous and corm, except potato, subgroup | Vegetable, tuberous and corm, except potato, subgroup 1D
Vegetable, tuberous and corm, subgroup | Vegetable, tuberous and corm, subgroup 1C
Vegetable, tuberous and corm, subgroup (Crop Subgroup 1-C) | Vegetable, tuberous and corm, subgroup 1C
Yams | Yam, true, tuber

[FR Doc. 03-16614 Filed 6-30-03; 8:45 am]

BILLING CODE 6560-50-S